NUCLEAR REGULATORY COMMISSION

[Docket No. 50-286]

Power Authority of the State of New York; Facility Operating License No. DPR-64, Receipt of Petition for Director's Decision Under 10 CFR 2.206

Notice is hereby given that by Petition dated February 10, 2000, Mr. David A. Lochbaum, on behalf of the Union of Concerned Scientists (Petitioner), has requested that the U.S. Nuclear Regulatory Commission (NRC) take action with regard to the Indian Point Nuclear Generating Unit No. 3 (IP3), owned and operated by the Power Authority of the State of New York (the licensee). The Petitioner requests that the NRC order the licensee to assess the corrective action program and the work environment at IP3 and to take immediate actions to remedy any deficiencies they identify. The Petitioner requested that this order be closed out before the sale of IP3 is authorized.

As the basis for this request, the Petitioner states that the NRC's new safety monitoring program assumes that the licensee has both a safety-conscious work environment and an effective method of correcting identified problems. In support of this request, the Petitioner cites concerns by a former member of the licensee's Operations Review Group (ORG) that the corrective action process at IP3 is not effective and that the work environment in the ORG is not safety-conscious. The Petitioner also cites several NRC letters that point out deficiencies in the licensee's corrective action program and one letter that points out an apparent instance of discrimination against an employee who raised safety concerns. In a telephone conference on February 16, 2000, the Petitioner voiced concern that under the NRC's new risk-informed inspection process a breakdown in the licensee's corrective action procedures for a non safety-related system would not be pursued. The Petitioner expressed concern that NRC inspectors might not be able to identify a programmatic breakdown in the licensee's corrective action process before such a breakdown affected plant safety.

The request is being treated pursuant to 10 CFR 2.206 of the Commission's regulations. The request has been referred to the Director of the Office of Nuclear Reactor Regulation. As provided by Section 2.206, appropriate action will be taken on this Petition within a reasonable time.

A copy of the Petition is available for inspection at the Commission's Public Document Room, the Gelman Building, 2120 L Street NW., Washington, DC, and accessible electronically through the ADAMS Public Electronic Reading Room link at the NRC Web site ­(http://www/nrc.gov).

Dated at Rockville, Maryland, this 24th day of March 2000.
For the Nuclear Regulatory Commission.
Jon R. Johnson,
Acting Director, Office of Nuclear Reactor Regulation.

[FR Doc. 00-8335 Filed 4-4-00; 8:45 am]

BILLING CODE 7590-01-U